DEPARTMENT OF HOMELAND SECURITY

Coast Guard

33 CFR Part 165

[Docket Number USCG-2011-0228]

Safety Zone, Brandon Road Lock and Dam to Lake Michigan including Des Plaines River, Chicago Sanitary and Ship Canal, Chicago River, and Calumet-Saganashkee Channel, Chicago, IL

AGENCY: Coast Guard, DHS.

ACTION: Notice of enforcement of regulation.

SUMMARY: The Coast Guard will enforce a segment of the Safety Zone; Brandon Road Lock and Dam to Lake Michigan including Des Plaines River, Chicago Sanitary and Ship Canal, Chicago River, Calumet-Saganashkee Channel on all waters of the Chicago Sanitary and Ship Canal between Mile Marker 296.1 to Mile Marker 296.7 at specified times from March 3, 2016 to March 11, 2016. This action is necessary to protect the waterway, waterway users, and vessels from the hazards associated with the U.S. Army Corps of Engineer's underwater inspections of the electric dispersal system for invasive species.

DATES: The regulations in 33 Code of Federal Regulations (CFR) 165.930 will be enforced from March 3, 2016 from 7 a.m. until 11 a.m. and then from 1 p.m. until 5 p.m. In the event the work cannot be completed on March 3, 2016, the safety zone will be enforced on March 4, 2016 through March 11, 2016 from 7 a.m. until 11 a.m. and from 1 p.m. until 5 p.m.

FOR FURTHER INFORMATION CONTACT: If you have questions about this notice of enforcement, call or email LT Lindsay Cook, Waterways Management Division, Marine Safety Unit Chicago, U.S. Coast Guard; telephone 630-986-2155, email address D09-DG-MSUChicago-Waterways@uscg.mil.

SUPPLEMENTARY INFORMATION: The Coast Guard will enforce a segment of the Safety Zone; Brandon Road Lock and Dam to Lake Michigan including Des Plaines River, Chicago Sanitary and Ship Canal, Chicago River, Calumet-Saganashkee Channel, Chicago, IL, listed in 33 CFR 165.930. Specifically, the Coast Guard will enforce this safety zone on all waters of the Chicago Sanitary and Ship Canal between Mile Marker 296.1 to Mile Marker 296.7. Enforcement will occur on March 3, 2016 from 7 a.m. until 11 a.m. and from 1 p.m. until 5 p.m. In the event the work cannot be completed on March 3, 2016 due to inclement weather or unforeseen circumstances this safety zone will be enforced on March 4, 2016 through March 11, 2016 from 7 a.m. until 11 a.m. and from 1 p.m. until 5 p.m. During the enforcement period, no vessel may transit this regulated area without approval from the Captain of the Port Sector Lake Michigan (COTP) or a COTP designated representative.

This notice of enforcement is issued under the authority of 33 CFR 165.930 and 5 U.S.C. 552(a). In addition to this publication in the Federal Register, the Captain of the Port Lake Michigan will also provide notice through other means, which may include

Broadcast Notice to Mariners, Local Notice to Mariners, local news media, distribution in leaflet form, and on-scene oral notice. Additionally, the Captain of the Port Lake Michigan may notify representatives from the maritime industry through telephonic and email notifications.

Dated: February 24, 2016.
A. B. Cocanour,
Captain, U.S. Coast Guard, Captain of the Port Lake Michigan.

[FR Doc. 2016-04826 Filed 3-3-16; 8:45 am]

BILLING CODE 9110-04-P